NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by July 2, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTAL INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Gerald Kooyman, 9500 Gilman Drive, La Jolla, CA 92093.

Permit Application: 2013-006.

Activity for Which Permit Is Requested: Take. Once emperor penguins depart the colony after raising their chicks their natural history is nearly unknown. They migrate to some of the most remote regions of the Antarctic. The reason for the migration is thought to be to find fertile foraging areas and a stable platform of sea ice where they can endure their complete feather molt of 35 days before going back to sea. This is the most critical time in the life cycle for adult birds. If they do not feed well before and after the molt, they are at the greatest risk for survival. For a host of reasons it is desirable to know more about this critical time, and one of the overriding incentives is to know how best to conserve this great natural resource of the bird, the food source, and the habitat. Acting as our guide these tagged birds will tell us much about their environment. Taking advantage of the opportunity to go to one of these great molting areas and determine the foraging areas and the travel of the birds on their return to the breeding colonies is the goal. This can only be accomplished remotely using the most advanced technology of the day, and that is satellite transmitters that will provide data about their aquatic behavior and travel positions on a day to day schedule. Body mass measurement is one of the least intrusive, and most direct ways of determining the condition of the animal. They will be weighed just prior to the attachment of the transmitter, and soon after they have completed the molt. A few feathers will also be collected to determine gender by molecular analysis back in the home laboratory. Gender is an important variable related to the life history of any animal, and should be determined whenever possible.

The applicant plans to be onboard the Nathaniel B. Palmer cruising the Ross Sea and will temporarily capture up to 30 adult (after their molt) Emperor penguins to attach a satellite transmitter and remove five feathers for gender determination, then release the birds within 20 minutes after capture.

Location: Ross Island vicinity.

Dates: December 1, 2012 to April 30, 2013.

Nadene G. Kennedy,
Permit Officer, Office of Polar Programs.

[FR Doc. 2012-13299 Filed 5-31-12; 8:45 am]

BILLING CODE 7555-01-P